FEDERAL COMMUNICATIONS COMMISSION

Federal Advisory Committee Act; Technological Advisory Council

AGENCY: Federal Communications Commission.

ACTION: Notice of public meeting.

SUMMARY: In accordance with the Federal Advisory Committee Act, this notice advises interested persons that the Federal Communications Commission's (FCC) Technological Advisory Council will hold a meeting. In addition, a full list of the TAC membership is attached to the Public Notice.

DATES: Monday, February 28, 2022, starting at 10:00 a.m., via video conference and will be available to the public via the internet.

ADDRESSES: Federal Communications Commission, 45 L Street NE, Washington, DC 20554.

FOR FURTHER INFORMATION CONTACT: Michael Ha, Chief, Policy and Rules Division, 202-418-2099; Michael.Ha@FCC.gov.

SUPPLEMENTARY INFORMATION: This is the first meeting of the Technological Advisory Council for 2022. This serves as Notice that, consistent with the Federal Advisory Committee Act, Federal Communications Commission (FCC or Commission) Chairwoman Jessica Rosenworcel has appointed members to serve on the Technological Advisory Council (TAC).

A full list of the TAC membership is attached to the Public Notice, DA 22-56, released January 19, 2022, https://www.fcc.gov/document/fcc-announces-membership-and-first-meeting-tac. The TAC, comprised of a diverse group of leading technology experts, provides technical expertise to the Commission to identify important areas of innovation and develop informed technology policies supporting the United States' competitiveness in the global economy. The TAC will consider and advise the Commission on topics such as 6G, artificial intelligence, advanced spectrum sharing technologies, and emerging wireless technologies, including new tools to restore internet access during shutdowns and other disruptions.

Meetings are broadcast live with open captioning over the internet from the FCC Live web page at http://www.fcc.gov/live/. The public may submit written comments before the meeting to: Michael Ha, the FCC's Designated Federal Officer for Technological Advisory Council by email: Michael.Ha@fcc.gov or U.S. Postal Service Mail (Michael Ha, Federal Communications Commission, Room 2-A665, 45 L Street NE, Washington, DC 20554). Open captioning will be provided for this event. Other reasonable accommodations for people with disabilities are available upon request. Requests for such accommodations should be submitted via email to fcc504@fcc.gov or by calling the Office of Engineering and Technology at (202) 418-2470 (voice), (202) 418-1944 (fax). Such requests should include a detailed description of the accommodation needed. In addition, please include your contact information. Please allow at least five days advance notice; last minute requests will be accepted, but may be impossible to fill.

Federal Communications Commission.
Ronald T. Repasi,
Acting Chief, Office of Engineering and Technology.

[FR Doc. 2022-01919 Filed 1-28-22; 8:45 am]

BILLING CODE 6712-01-P